DEPARTMENT OF ENERGY

Federal Energy Regulatory Commission

[Project No. 1005-011]

Applications; City of Boulder, CO

October 9, 2009.

Notice of Application Accepted for Filing, Soliciting Comments, Protests, and Motions To Intervene, Ready for Environmental Analysis, and Soliciting Recommentations and Terms and Conditions

Take notice that the following hydroelectric application has been filed with the Commission and is available for public inspection:

a. Type of Application: Conversion of License to Conduit Exemption.

b. Project No.: 1005-011.

c. Date filed: March 10, 2009.

d. Applicant: City of Boulder, Colorado.

e. Name of Project: Boulder Canyon Hydroelectric Project.

f. Location: On the water supply facilities of the City of Boulder, in Boulder and Nederland Counties, Colorado. All of the lands on which the project structures are located are owned by the applicant. No federal lands would be included in the proposed project boundary.

g. Filed Pursuant to: Federal Power Act, 16 U.S.C. 791a-825r.

h. Applicant Contact: Ms. Carol D. Ellinghouse, Water Resources Coordinator, City of Boulder, Colorado, Department of Public Works, P.O. Box 791, Boulder, CO 80306-0791, phone (303) 441-3266.

i. FERC Contact: Robert Bell, (202) 502-6062, Robert.Bell@ferc.gov.

j. Status of Environmental Analysis: The application is ready for environmental analysis at this time. The Commission is requesting comments, reply comments, and recommendations for both the request to remove licensed project facilities from the project boundary and concerning Commission jurisdiction. The Commission is also requesting terms and conditions for the Conduit Exemption application.

k. Deadline for filing responsive documents—The Commission directs, pursuant to section 4.34(b) of the Regulations (see Order No. 533, issued May 8, 1991, 56 Fed. Reg. 23,108, May 20, 1991) that all comments, motions to intervene, protests, recommendations, terms and conditions, and prescriptions concerning the application be filed within 60 days from the issuance date of this notice. All reply comments are due 105 days from the issuance date of this notice. All documents (original and eight copies) should be filed with: Secretary, Federal Energy Regulatory Commission, 888 First Street, NE., Washington, DC 20426. Please include the project numbers (P-1005-011) on any comments or motions filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the applicant specified in a particular application.

l. Description of request: In the application filed on March 10, 2009, the City of Boulder seeks to convert the currently licensed Boulder Canyon Hydroelectric Project No. 1005 to a conduit exemption. This action results in the removal of certain licensed project facilities from the project boundary and from Commission jurisdiction.

a. Licensed Facilities: The applicant proposes to convert its license to a conduit exemption for the Boulder Canyon Hydroelectric Project No. 1005. The applicant proposes to remove the following project facilities from the Commission's jurisdiction: (1) A 175-foot-high, 720-foot-long concrete dam; (2) a reservoir (Baker Reservoir) having a surface area of 200 acres; (3) a 225-foot-long tunnel connecting a 11.7-mile-long pipeline; (4) a Forebay (Kossler Reservoir) formed by three embankment dams; and (5) a steel penstock. The aforementioned facilities would remain operational as part of the applicant's water supply facilities.

b. Conduit Exemption: The applicant proposes a conduit exemption for the Boulder Canyon Hydroelectric Project No. 1005. The proposed project would be located on its water supply system in Boulder and Nederland Counties, Colorado, and would consist of: (1) An existing powerhouse containing one generating unit having an installed capacity of 10 megawatts, and (2) appurtenant facilities. The City of Boulder, Colorado, estimates the project would have an average annual generation of 11.6 megawatt-hours that would be sold to a local utility.

m. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

n. Mailing list: Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application (see item (j) above).

p. Filing and Service of Responsive Documents—All filings must (1) bear in all capital letters the title “PROTEST”, “MOTION TO INTERVENE”, “COMMENTS,” “REPLY COMMENTS,” “RECOMMENDATIONS,” or “TERMS AND CONDITIONS;” (2) set forth in the heading the name of the applicant and the project number of the application to which the filing responds; (3) furnish the name, address, and telephone number of the person protesting or intervening; and (4) otherwise comply with the requirements of 18 CFR 385.2001 through 385.2005. All comments or terms and conditions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

q. e-Filing: Comments, motions to intervene, protests, recommendations, or terms and conditions may be filed electronically via the Internet in lieu of paper. See, 18 CFR 385.2001(a)(1)(iii) and the instructions on the Commission's Web site at http://www.ferc.gov under the “e Filing” link. The Commission strongly encourages electronic filings.

Kimberly D. Bose,
Secretary.

[FR Doc. E9-25018 Filed 10-16-09; 8:45 am]

BILLING CODE 6717-01-P